DEPARTMENT OF ENERGY

Federal Energy Regulatory Commission

Notice of Application for Amendment of License and Soliciting Comments, Motions to Intervene, and Protests

March 27, 2007.

Take notice that the following hydroelectric application has been filed with the Commission and is available for public inspection:

a. Application Type: Non-Project Use of Project Lands and Waters to expand an existing marina.

b. Project No: 349-123.

c. Date Filed: February 21, 2007.

d. Applicant: Russell Lands, Inc. (Russell), Alabama.

e. Name of Project: Martin Dam Hydroelectric Project.

f. Location: On the Tallapoosa, in Elmore County, Alabama. The project occupies 1.36 acres of federal lands managed by the U.S. Bureau of Land Management.

g. Filed Pursuant to: Federal Power Act, 16 U.S.C. 791a-825r.

h. Applicant Contact: Jim Bains, Jr. Vice President, Real Estate Development, Russell Lands, Inc. 2544 Willow Point Road, Alexander City, Alabama 35010, (256) 212-1421.

i. FERC Contact: Brian Romanek, Telephone (202) 502-6175, and e-mail: Brian.Romanek@ferc.gov.

j. Deadline for filing comments, motions to intervene, and protest: April 27, 2007.

All documents (original and eight copies) should be filed with: Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: To accommodate the residents of the Ledges of the Ridge community, Russell proposes to construct a new cluster dock adjacent to an existing 10-slip cluster dock. Russell proposes to add two boat slips to the existing 10-slip cluster dock and construct a second 12-slip cluster dock. The boat slips would accommodate 24 boats. Further, Russell would construct drive-on personal watercraft (PWC) lifts that accommodate 12 PWCs at each of the two cluster docks. Dredging of 1,000 cubic yards of lake bottom would be necessary and the dredged material would be relocated to an upland site. All floatation devices needed for this structure would be encapsulated and all metal support material would be galvanized.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Philis J. Posey,
Acting Secretary.

[FR Doc. E7-6000 Filed 3-30-07; 8:45 am]

BILLING CODE 6717-01-P